NUCLEAR REGULATORY COMMISSION

[Docket Nos. 50-387 and 50-388; NRC-2012-0283]

PPL Susquehanna, LLC; Susquehanna Steam Electric Station, Units 1 and 2

AGENCY: Nuclear Regulatory Commission.

ACTION: License amendment application; withdrawal by applicant.

SUMMARY: The U.S. Nuclear Regulatory Commission (NRC) has granted the request of PPL Susquehanna, LLC to withdraw its application dated September 18, 2012, as supplemented by letter dated May 10, 2013, for a proposed amendment to Renewed Facility Operating License Nos. NPF-14 and NPF-22 for the Susquehanna Steam Electric Station, Units 1 and 2. The proposed amendment would have changed Technical Specification (TS) Surveillance Requirements 3.8.1.9, 3.8.1.11, 3.8.1.12, and 3.8.1.19 in TS 3.8.1, “AC Sources—Operating.” Specifically, the proposed amendments would increase the diesel generator (DG) acceptable minimum steady state voltage when operating in emergency/isochronous mode.

DATES: Notice of withdrawal of license amendment application given on February 24, 2015.

ADDRESSES: Please refer to Docket ID NRC-2012-0283 when contacting the NRC about the availability of information regarding this document. You may obtain publicly-available information related to this document using any of the following methods:

• Federal Rulemaking Web site: Go to http://www.regulations.gov and search for Docket ID NRC-2012-0283. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jeffrey A. Whited, Office of Nuclear Reactor Regulation, U.S. Nuclear Regulatory Commission, Washington, DC 20555-0001; telephone: 301-415-4090, email: jeffrey.whited@nrc.gov.

SUPPLEMENTARY INFORMATION: The NRC has granted the request of PPL Susquehanna, LLC (the licensee) to withdraw its application dated September 18, 2012 (ADAMS Accession No. ML12262A322), as supplemented by letter dated May 10, 2013 (ADAMS Accession No. ML13130A130), for a proposed amendment to the Susquehanna Steam Electric Station, Units 1 and 2, located in Luzerne County, Pennsylvania.

The proposed amendment would have changed TS Surveillance Requirements 3.8.1.9, 3.8.1.11, 3.8.1.12, and 3.8.1.19 in TS 3.8.1, “AC Sources—Operating.” Specifically, the proposed amendments would increase the DG acceptable minimum steady state voltage when operating in emergency/isochronous mode.

The NRC published a Biweekly Notice in the Federal Register on November 27, 2012 (77 FR 70842), that gave notice that this proposed amendment was under consideration by the NRC. However, by letter dated December 22, 2014 (ADAMS Accession No ML15022A013), the licensee requested to withdraw the proposed amendment.

Dated at Rockville, Maryland, this 9th day of February 2015.
For the Nuclear Regulatory Commission.
Jeffrey A. Whited,
Project Manager, Plant Licensing Branch I-2, Division of Operating Reactor Licensing, Office of Nuclear Reactor Regulation.

[FR Doc. 2015-03773 Filed 2-23-15; 8:45 am]

BILLING CODE 7590-01-P